DEPARTMENT OF ENERGY

Federal Energy Regulatory Commission

[Project No. 1 4751-001]

Alpine Pacific Utilities, LLC; Notice of Preliminary Permit Application Accepted for Filing and Soliciting Comments, Motions To Intervene, and Competing Applications

On January 22, 2016, Alpine Pacific Utilities, LLC filed an application for a preliminary permit, pursuant to section 4(f) of the Federal Power Act (FPA), proposing to study the feasibility of the Fresno Dam Site Water Power Project (Fresno Dam Project or project) to be located in Hill County, Montana near the town of Kremlin at the existing Bureau of Reclamation Fresno Dam located on the Milk River. The sole purpose of a preliminary permit, if issued, is to grant the permit holder priority to file a license application during the permit term. A preliminary permit does not authorize the permit holder to perform any land-disturbing activities or otherwise enter upon lands or waters owned by others without the owners' express permission.

The proposed project would utilize the existing outlet structure on Fresno Dam. The proposed project would consist of the following new facilities: (1) A 48-inch-diameter, 100-foot-long bifurcated penstock leading from the existing outlet works; (2) a powerhouse containing two turbines/generating units with a combined installed capacity of 1.348 megawatts; (3) a tailrace discharging flows into the existing dam spillway; (4) a transformer in a 25-square-foot switchyard; (5) an approximately 1-mile-long, 12.74-kilovolt overhead transmission line connecting to existing Hill County Electric and Northwest Electric transmission systems; and (6) appurtenant facilities. The proposed project would have an average annual generation of 4,700 megawatt-hours

Applicant Contact: Justin D. Ahmann, Alpine Pacific Utilities, LLC, 111 Legend Trail, Kalispell, MT 59901.

FERC Contact: Ryan Hansen, phone: (202) 502-8074, or email ryan.hansen@ferc.gov.

Deadline for filing comments, motions to intervene, competing applications (without notices of intent), or notices of intent to file competing applications: 60 Days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14751-001.

More information about this project, including a copy of the application, can be viewed or printed on the “eLibrary” link of Commission's Web site at http://www.ferc.gov/docs-filing/elibrary.asp. Enter the docket number (P-14751) in the docket number field to access the document. For assistance, contact FERC Online Support.

Dated: February 17, 2016.
Nathaniel J. Davis, Sr.,
Deputy Secretary.

[FR Doc. 2016-04161 Filed 2-25-16; 8:45 am]

BILLING CODE 6717-01-P